DEPARTMENT OF TRANSPORTATION

Office of the Secretary of Transportation

Notice of Funding Opportunity for the Department of Transportation's National Infrastructure Investments Under the Consolidated Appropriations Act, 2017

AGENCY: Office of the Secretary of Transportation, DOT.

ACTION: Notice of funding opportunity.

SUMMARY: The Consolidated Appropriations Act, 2017 (Pub. L. 115-31, May 5, 2017) (“FY 2017 Appropriations Act” or the “Act”) appropriated $500 million to be awarded by the Department of Transportation (“DOT” or the “Department”) for National Infrastructure Investments. This appropriation stems from the program funded and implemented pursuant to the American Recovery and Reinvestment Act of 2009 (the “Recovery Act”) known as the Transportation Investment Generating Economic Recovery, or “TIGER Discretionary Grants,” program. Because of the program's similarity in structure and widespread name recognition, DOT will continue to refer to the program as “TIGER Discretionary Grants.” Funds for the FY 2017 TIGER program (“TIGER FY 2017”) are to be awarded on a competitive basis for projects that will have a significant impact on the Nation, a metropolitan area, or a region. The purpose of this Final Notice is to solicit applications for TIGER Discretionary Grants.

DATES: Applications must be submitted by 8:00 p.m. E.D.T. on October 16, 2017.

ADDRESSES: Applications must be submitted through Grants.gov.

FOR FURTHER INFORMATION CONTACT: For further information concerning this notice, please contact the TIGER Discretionary Grants program staff via email at TIGERGrants@dot.gov, or call Howard Hill at 202-366-0301. A TDD is available for individuals who are deaf or hard of hearing at 202-366-3993. In addition, DOT will regularly post answers to questions and requests for clarifications as well as information about webinars for further guidance on DOT's Web site at www.transportation.gov/TIGER.

SUPPLEMENTARY INFORMATION: This notice is substantially similar to the final notice published for the TIGER Discretionary Grants program in the Federal Register on February 26, 2016 (81 FR 9935) for fiscal year 2016 funds. The selection criteria remain fundamentally the same as previous rounds of TIGER Discretionary Grants, but the description of each criterion was updated. The FY 2017 TIGER program will give special consideration to projects which emphasize improved access to reliable, safe, and affordable transportation for communities in rural areas, such as projects that improve infrastructure condition, address public health and safety, promote regional connectivity, or facilitate economic growth or competitiveness. For this round of TIGER Discretionary Grants, the maximum grant award is $25 million, and no more than $50 million can be awarded to a single State, as specified in the FY 2017 Appropriations Act. Each section of this notice contains information and instructions relevant to the application process for these TIGER Discretionary Grants, and all applicants should read this notice in its entirety so that they have the information they need to submit eligible and competitive applications.

Table of Contents

A. Program Description

B. Federal Award Information

C. Eligibility Information

D. Application and Submission Information

E. Application Review Information

F. Federal Award Administration Information

G. Federal Awarding Agency Contacts

H. Other Information

A. Program Description

The Consolidated Appropriations Act, 2017 (Pub. L. 115-31, May 5, 2017) (“FY 2017 Appropriations Act” or the “Act”) appropriated $500 million to be awarded by the Department of Transportation (“DOT” or the “Department”) for National Infrastructure Investments. Since the TIGER Discretionary Grants program was first created, $5.1 billion has been awarded for capital investments in surface transportation infrastructure over eight rounds of competitive grants. Throughout the TIGER program, TIGER Discretionary Grants awards have supported projects that have a significant impact on the Nation, a metropolitan area, or a region. This includes, but is not limited to, capital projects in areas which repair bridges or improve infrastructure to a state of good repair; projects that implement safety improvements to reduce fatalities and serious injuries, including improving grade crossings or providing shorter or more direct access to critical health services; projects that connect communities and people to jobs, services, and education; and, projects that anchor economic revitalization and job growth in communities, and specifically those that help bring manufacturing and other jobs. The TIGER program also supports projects that demonstrate significant non-Federal contributions from State, local, and private sector funding sources. The Department recognizes the benefits of shared responsibility and accountability of infrastructure investment, as it facilitates increased rigor in decision making, provides evidence of support for the project, and leverages Federal investment. Over eight rounds, on average, projects attracted more than 3.6 matching dollars for every TIGER grant dollar, representing the shared responsibility for funding infrastructure.

Rural America is home to many of the nation's most critical infrastructure assets, including 444,000 bridges, 2.98 million miles of roadway, and 30,500 miles of Interstate Highway. More than 55 percent of all public roads are locally-owned rural roads. While only 19 percent of the nation's population lives in rural areas, 51 percent of all traffic fatalities occurred on rural roads (2014). In addition, public transportation serving rural areas has more than 160 million annual boardings (2015).

B. Federal Award Information

1. Amount Available

The FY 2017 Appropriations Act appropriated $500 million to be awarded by DOT for the TIGER Discretionary Grants program. The FY 2017 TIGER Discretionary Grants are for capital investments in surface transportation infrastructure and are to be awarded on a competitive basis for projects that will have a significant impact on the Nation, a metropolitan area, or a region. The FY 2017 Appropriations Act also allows DOT to retain up to $20 million of the $500 million for oversight and administration of grants and credit assistance made under the TIGER Discretionary Grants program. If this solicitation does not result in the award and obligation of all available funds, DOT may publish additional solicitations.

The FY 2017 Appropriations Act allows up to 20 percent of available funds (or $100 million) to be used by the Department to pay the subsidy and administrative costs for a project receiving credit assistance under the Transportation Infrastructure Finance and Innovation Act of 1998 (“TIFIA”) program, if that use of the FY 2017 TIGER funds would further the purposes of the TIGER Discretionary Grants program.

2. Award Size

The FY 2017 Appropriations Act specifies that TIGER Discretionary Grants may not be less than $5 million and not greater than $25 million, except that for projects located in rural areas (as defined in Section C.3.ii.) the minimum TIGER Discretionary Grant size is $1 million.

3. Restrictions on Funding

Pursuant to the FY 2017 Appropriations Act, no more than 10 percent of the funds made available for TIGER Discretionary Grants (or $50 million) may be awarded to projects in a single State. The Act also directs that not less than 20 percent of the funds provided for TIGER Discretionary Grants (or $100 million) shall be used for projects located in rural areas. Further, DOT must take measures to ensure an equitable geographic distribution of grant funds, an appropriate balance in addressing the needs of urban and rural areas, and investment in a variety of transportation modes.

4. Availability of Funds

The FY 2017 Appropriations Act requires that FY 2017 TIGER funds are only available for obligation through September 30, 2020. Obligation occurs when a selected applicant and DOT enter into a written grant agreement and is generally after the applicant has satisfied applicable administrative requirements, including transportation planning and environmental review requirements. No FY 2017 TIGER funds may be expended (actually paid out) after September 30, 2025. As part of the review and selection process described in Section E.2., DOT will consider whether a project is ready to proceed with an obligation of grant funds from DOT within the statutory time provided. No waiver is possible for these deadlines.

5. Previous TIGER Awards

Recipients of prior TIGER Discretionary Grants may apply for funding to support additional phases of a project awarded funds in earlier rounds of this program. However, to be competitive, the applicant should demonstrate the extent to which the previously funded project phase has been able to meet estimated project schedules and budget, as well as the ability to realize the benefits expected for the project.

C. Eligibility Information

To be selected for a TIGER Discretionary Grant, an applicant must be an Eligible Applicant and the project must be an Eligible Project.

1. Eligible Applicants

Eligible Applicants for TIGER Discretionary Grants are State, local, and tribal governments, including U.S. territories, transit agencies, port authorities, metropolitan planning organizations (MPOs), and other political subdivisions of State or local governments.

Multiple States or jurisdictions may submit a joint application and must identify a lead applicant as the primary point of contact, and also identify the primary recipient of the award. Each applicant in a joint application must be an Eligible Applicant. Joint applications must include a description of the roles and responsibilities of each applicant and must be signed by each applicant.

2. Cost Sharing or Matching

This section describes the statutory cost share requirements for a TIGER award. Cost share will also be evaluated according to the evaluation criterion described in Section E.1.v. That section clarifies that the Department seeks applications for projects that exceed the minimum non-Federal cost share requirement described here.

Per the FY 2017 Appropriations Act, TIGER Discretionary Grants may be used for up to 80 percent of a project located in an urban area ¹ and up to 100 percent of the costs of a project located in a rural area. Urban area and rural area are defined in Section C.3.ii of this notice.

¹ To meet match requirements, the minimum total project cost for a project located in an urban area must be $6.25 million.

For a project located in an urban area, the Federal share of the costs for which an expenditure is made under a TIGER grant may not exceed 80 percent. Non-Federal sources include State funds originating from programs funded by State revenue, local funds originating from State or local revenue-funded programs, or private funds. Toll credits under 23 U.S.C. 120(i) are considered a non-Federal source. Unless otherwise authorized by statute, local cost-share may not be counted as the non-Federal share for both the TIGER and another Federal grant program. The Department will not consider previously-incurred costs or previously-expended or encumbered funds towards the matching requirement for any project. Matching funds are subject to the same Federal requirements described in Section F.2. as awarded funds. Given the TIFIA statute, the Department may not be able to consider funds from TIFIA towards the matching requirement. While RRIF credit assistance will be counted towards match requirements, the Department will give greater preference to state, local, and private sources of matching funds.

3. Other

i. Eligible Projects

Eligible projects for TIGER Discretionary Grants are capital projects that include, but are not limited to: (1) Highway, bridge, or other road projects eligible under title 23, United States Code; (2) public transportation projects eligible under chapter 53 of title 49, United States Code; (3) passenger and freight rail transportation projects; (4) port infrastructure investments (including inland port infrastructure and land ports of entry); and (5) intermodal projects. This description of eligible projects is identical to the description of eligible projects under earlier rounds of the TIGER Discretionary Grants program.² Research, demonstration, or pilot projects are eligible only if they result in long-term, permanent surface transportation infrastructure that has independent utility as defined in Section C.3.iii. Applicants are strongly encouraged to submit applications only for eligible award amounts.

² Please note that the Department may use a TIGER Discretionary Grant to pay for the surface transportation components of a broader project that has non-surface transportation components, and applicants are encouraged to apply for TIGER Discretionary Grants to pay for the surface transportation components of these projects.

ii. Rural/Urban Definition

For purposes of this Notice, DOT defines “rural area” as an area outside an Urbanized Area ³ (UA) as designated by the U.S. Census Bureau. In this Notice, an “urban area” is defined as an area inside a UA as a designated by the U.S. Census Bureau.⁴

³ Updated lists of UAs as defined by the Census Bureau are available on the Census Bureau Web site at http://www2.census.gov/geo/maps/dc10map/UAUC_RefMap/ua/.

⁴ See www.transportation.gov/TIGER for a list of UAs.

The Department will consider a project to be in a rural area if the majority of the project (determined by geographic location(s) where the majority of the money is to be spent) is located in a rural area. However, if a project consists of multiple components, as described under Section C.3.iii., then for each separate component the Department will determine whether that component is rural or urban. In some circumstances, this component-by-component determination may result in TIGER awards that include urban and rural funds. Rural and urban definitions differ in some other DOT programs, including TIFIA and the Nationally Significant Freight and Highway Projects Program (§ 1105; 23 U.S.C. 117).

This definition affects three aspects of the program. The FY 2017 Appropriations Act directs that (1) not less than $100 million of the funds provided for TIGER Discretionary Grants are to be used for projects in rural areas; (2) for a project in a rural area the minimum award is $1 million; and (3) the Secretary may increase the Federal share above 80 percent to pay for the costs of a project in a rural area.

iii. Project Components

An application may describe a project that contains more than one component, and may describe components that may be carried out by parties other than the applicant. DOT may award funds for a component, instead of the larger project, if that component (1) independently meets minimum award amounts described in Section B and all eligibility requirements described in Section C; (2) independently aligns well with the selection criteria specified in Section E; and (3) meets National Environmental Policy Act (NEPA) requirements with respect to independent utility. Independent utility means that the component will represent a transportation improvement that is usable and represents a reasonable expenditure of DOT funds even if no other improvements are made in the area, and will be ready for intended use upon completion of that component's construction. All project components that are presented together in a single application must demonstrate a relationship or connection between them. (See Section D.2.v. for Required Approvals).

Applicants should be aware that, depending upon the relationship between project components and applicable Federal law, DOT funding of only some project components may make other project components subject to Federal requirements as described in Section F.2.

DOT strongly encourages applicants to identify in their applications the project components that have independent utility and separately detail costs and requested TIGER funding for those components. If the application identifies one or more independent project components, the application should clearly identify how each independent component addresses selection criteria and produces benefits on its own, in addition to describing how the full proposal of which the independent component is a part addresses selection criteria.

iv. Application Limit

Each lead applicant may submit no more than three applications. Unrelated project components should not be bundled in an application for the purpose of adhering to the limit. Please note that the three-application limit applies only to applications where the applicant is the lead applicant. There is no limit on the number of applications for which an applicant can be listed as a partnering agency. If a lead applicant submits more than three applications as the lead applicant, only the first three received will be considered. The FY 2017 and 2018 Infrastructure for Rebuilding American (INFRA) Grants solicitation (82 FR 14042) and the 2017 TIGER Discretionary Grant program have independent application limits. Applicants applying to both INFRA grants and the 2017 TIGER Discretionary Grants program may apply for funding for the same project under both programs (noted in each application), but must timely submit separate applications that independently address how the project satisfies applicable selection criteria for the relevant grant program. To the extent that an application for the same project submitted to both programs contains few or no changes to a benefit-cost analysis or project readiness information, DOT may review and incorporate the previously completed analysis by Department staff into the application's evaluation when considering the project for a FY 2017 TIGER award.

D. Application and Submission Information

1. Address

Applications must be submitted to Grants.gov. Instructions for submitting applications can be found at www.transportation.gov/TIGER along with specific instructions for the forms and attachments required for submission.

2. Content and Form of Application Submission

The application must include the Standard Form 424 (Application for Federal Assistance), Standard Form 424C (Budget Information for Construction Programs), cover page, and the Project Narrative. More detailed information about the cover pages and Project Narrative follows. Applicants should also complete and attach to their application the “TIGER 2017 Project Information” form available at www.transportation.gov/TIGER.

The Department recommends that the project narrative follow the basic outline below to address the program requirements and assist evaluators in locating relevant information.

I. Project Description | See D.2.a.i.
II. Project Location | See D.2.a.ii.
III. Project Parties | See D.2.a.iii.
IV. Grant Funds, Sources and Uses of all Project Funding | See D.2.a.iv.
V. Merit Criteria | See D.2.a.v.
VI. Project Readiness | See D.2.a.vii and E.1.c.ii.

The project narrative should include the information necessary for the Department to determine that the project satisfies project requirements described in Sections B and C and to assess the selection criteria specified in Section E.1. To the extent practicable, applicants should provide supporting data and documentation in a form that is directly verifiable by the Department. The Department may ask any applicant to supplement data in its application, but expects applications to be complete upon submission.

In addition to a detailed statement of work, detailed project schedule, and detailed project budget, the project narrative should include a table of contents, maps, and graphics, as appropriate to make the information easier to review. The Department recommends that the project narrative be prepared with standard formatting preferences (a single-spaced document, using a standard 12-point font such as Times New Roman, with 1-inch margins). The project narrative may not exceed 30 pages in length, excluding cover pages and table of contents. The only substantive portions that may exceed the 30-page limit are documents supporting assertions or conclusions made in the 30-page project narrative. If possible, Web site links to supporting documentation should be provided rather than copies of these supporting materials. If supporting documents are submitted, applicants should clearly identify within the project narrative the relevant portion of the project narrative that each supporting document supports. At the applicant's discretion, relevant materials provided previously to an operating administration in support of a different DOT financial assistance program may be referenced and described as unchanged. The Department recommends using appropriately descriptive file names (e.g., “Project Narrative,” “Maps,” “Memoranda of Understanding and Letters of Support,” etc.) for all attachments. DOT recommends applications include the following sections:

i. Project Description

The first section of the application should provide a concise description of the project, the transportation challenges that it is intended to address, and how it will address those challenges. This section should discuss the project's history, including a description of any previously completed components. The applicant may use this section to place the project into a broader context of other infrastructure investments being pursued by the project sponsor, and, if applicable, how it will benefit communities in rural areas.

ii. Project Location

This section of the application should describe the project location, including a detailed geographical description of the proposed project, a map of the project's location and connections to existing transportation infrastructure, and geospatial data describing the project location. If the project is located within the boundary of a Census-designated UA, the application should identify the UA.

iii. Grant Funds, Sources and Uses of Project Funds

This section of the application should describe the project's budget. This budget should not include any previously incurred expenses. At a minimum, it should include:

(A) Project costs;

(B) For all funds to be used for eligible project costs, the source and amount of those funds;

(C) For non-Federal funds to be used for eligible project costs, documentation of funding commitments should be referenced here and included as an appendix to the application;

(D) For Federal funds to be used for eligible project costs, the amount, nature, and source of any required non-Federal match for those funds;

(E) A budget showing how each source of funds will be spent. The budget should show how each funding source will share in each major construction activity, and present that data in dollars and percentages. Funding sources should be grouped into three categories: Non-Federal; TIGER; and other Federal. If the project contains individual components, the budget should separate the costs of each project component. If the project will be completed in phases, the budget should separate the costs of each phase. The budget detail should sufficiently demonstrate that the project satisfies the statutory cost-sharing requirements described in Section C.2;

In addition to the information enumerated above, this section should provide complete information on how all project funds may be used. For example, if a particular source of funds is available only after a condition is satisfied, the application should identify that condition and describe the applicant's control over whether it is satisfied. Similarly, if a particular source of funds is available for expenditure only during a fixed time period, the application should describe that restriction. Complete information about project funds will ensure that the Department's expectations for award execution align with any funding restrictions unrelated to the Department, even if an award differs from the applicant's request.

iv. Merit Criteria

This section of the application should demonstrate how the project aligns with the Merit Criteria described in Section E.1 of this Notice. The Department encourages applicants to either address each criterion or expressly state that the project does not address the criterion. Applicants are not required to follow a specific format, but the outline suggested below, which addresses each criterion separately, promotes a clear discussion that assists project evaluators. To minimize redundant information in the application, the Department encourages applicants to cross-reference from this section of their application to relevant substantive information in other sections of the application. The guidance in this section is about how the applicant should organize their application. Guidance describing how the Department will evaluate projects against the Merit Criteria is in Section E.1 of this Notice. Applicants also should review that section before considering how to organize their application.

(1) Primary Selection Criteria

(a) Safety

This section of the application should describe the anticipated outcomes of the project that support the Safety criterion (described in Section E.1.i. of this Notice). The applicant should include information on, and to the extent possible, quantify, how the project would improve safety outcomes within the project area or wider transportation network, to include how the project will reduce the number, rate, and consequences of transportation-related accidents, serious injuries, and fatalities among transportation users, or how the project will eliminate unsafe grade crossings or contribute to preventing unintended releases of hazardous materials.

(b) State of Good Repair

This section of the application should describe how the project will contribute to a state of good repair by improving the condition or resilience of existing transportation facilities and system (described in Section E.1.i. of this Notice), including the project's current condition and how the proposed project will improve it, and any estimation of impacts on long-term cost structures or impacts on overall life-cycle costs.

(c) Economic Competitiveness

This section of the application should describe how the project will support the Economic Competitiveness criterion (described in Section E.1.i. of this Notice). The applicant should include information about expected impacts of the project on the movement of goods and people, including how the project increases the efficiency of movement and thereby reduces costs of doing business, reduces burdens of commuting, and improves overall well-being. The applicant should describe the extent to which the project contributes to the functioning and growth of the economy, including the extent to which the project addresses congestion, bridges service gaps in rural areas, or attracts private economic development.

(d) Environmental Sustainability

This section of the application should describe how the project addressed the environmental sustainability criterion. Applicants are encouraged to provide quantitative information, including baseline information that demonstrates how the project will reduce energy consumption, stormwater runoff, or achieve other benefits for the environment such as brownfield redevelopment.

(e) Quality of Life

This section should describe how the project increases transportation choices for individuals to provide more freedom on transportation decisions and improves access to essential services for people in communities across the United States, particularly for rural communities.

(2) Secondary Selection Criteria

(a) Innovation

This section of the application should describe innovative strategies used to pursue primary selection criteria and the anticipated benefits of using those strategies. If an applicant is proposing to adopt innovative safety approaches or technology, the application should demonstrate the applicant's capacity to implement those innovations, the applicant's understanding of whether the innovations will require extraordinary permitting, approvals, or other procedural actions, and the effects of those innovations on the project delivery timeline. If an applicant plans to incorporate innovative funding or financing, the applicant should describe the funding or financing approach, including a description of all activities undertaken to pursue private funding or financing for the project and the outcomes of those activities.

(b) Partnership

This section of the application should list all project parties, including details about the proposed grant recipient and other public and private parties who are involved in delivering the project. This section should also describe efforts to collaborate among stakeholders, including with the private sector.

v. Project Readiness

This section of the application should include information that, when considered with the project budget information presented elsewhere in the application, is sufficient for the Department to evaluate whether the project is reasonably expected to begin construction in a timely manner. To assist the Department's project readiness assessment, the applicant should provide the information requested on technical feasibility, project schedule, project approvals, and project risks, each of which is described in greater detail in the following sections. Applicants are not required to follow the specific format described here, but this organization, which addresses each relevant aspect of project readiness, promotes a clear discussion that assists project evaluators. To minimize redundant information in the application, the Department encourages applicants to cross-reference from this section of their application to relevant substantive information in other sections of the application.

The guidance here is about what information applicants should provide and how the applicant should organize their application. Guidance describing how the Department will evaluate a project's readiness is described in Section E.1 of this Notice. Applicants also should review that section when considering how to organize their application.

(A) Technical Feasibility. The applicant should demonstrate the technical feasibility of the project with engineering and design studies and activities; the development of design criteria and/or a basis of design; the basis for the cost estimate presented in the TIGER application, including the identification of contingency levels appropriate to its level of design; and any scope, schedule, and budget risk-mitigation measures. Applicants should include a detailed statement of work that focuses on the technical and engineering aspects of the project and describes in detail the project to be constructed.

(B) Project Schedule. The applicant should include a detailed project schedule that identifies all major project milestones. Examples of such milestones include State and local planning approvals (programming on the Statewide Transportation Improvement Program), start and completion of NEPA and other Federal environmental reviews and approvals including permitting; design completion; right of way acquisition; approval of plans, specifications and estimates; procurement; State and local approvals; project partnership and implementation agreements including agreements with railroads; and construction. The project schedule should be sufficiently detailed to demonstrate that:

(1) All necessary activities will be complete to allow TIGER funds to be obligated sufficiently in advance of the statutory deadline (September 30, 2020 for FY 2017 funds), and that any unexpected delays will not put the funds at risk of expiring before they are obligated;

(2) the project can begin construction quickly upon obligation of TIGER funds, and that the grant funds will be spent expeditiously once construction starts; and

(3) all real property and right-of-way acquisition will be completed in a timely manner in accordance with 49 CFR part 24, 23 CFR part 710, and other applicable legal requirements or a statement that no acquisition is necessary.

(C) Required Approvals.

(1) Environmental Permits and Reviews. The application should demonstrate receipt (or reasonably anticipated receipt) of all environmental approvals and permits necessary for the project to proceed to construction on the timeline specified in the project schedule and necessary to meet the statutory obligation deadline, including satisfaction of all Federal, State and local requirements and completion of the NEPA process. Specifically, the application should include:

(a) Information about the NEPA status of the project. If the NEPA process is complete, an applicant should indicate the date of completion, and provide a Web site link or other reference to the final Categorical Exclusion, Finding of No Significant Impact, Record of Decision, and any other NEPA documents prepared. If the NEPA process is underway, but not complete, the application should detail the type of NEPA review underway, where the project is in the process, and indicate the anticipated date of completion of all milestones and of the final NEPA determination. If the last agency action with respect to NEPA documents occurred more than three years before the application date, the applicant should describe why the project has been delayed and include a proposed approach for verifying and, if necessary, updating this material in accordance with applicable NEPA requirements.

(b) Information on reviews, approvals, and permits by other agencies. An application should indicate whether the proposed project requires reviews or approval actions by other agencies,⁵ indicate the status of such actions, and provide detailed information about the status of those reviews or approvals and should demonstrate compliance with any other applicable Federal, State, or local requirements, and when such approvals are expected. Applicants should provide a Web site link or other reference to copies of any reviews, approvals, and permits prepared.

⁵ Projects that may impact protected resources such as wetlands, species habitat, cultural or historic resources require review and approval by Federal and State agencies with jurisdiction over those resources.

(c) Environmental studies or other documents, preferably through a Web site link, that describe in detail known project impacts, and possible mitigation for those impacts.

(d) A description of discussions with the appropriate DOT operating administration field or headquarters office regarding the project's compliance with NEPA and other applicable Federal environmental reviews and approvals.

(e) A description of public engagement about the project that has occurred, including details on the degree to which public comments and commitments have been integrated into project development and design.

(2) State and Local Approvals. The applicant should demonstrate receipt of State and local approvals on which the project depends, such as State and local environmental and planning approvals and Statewide Transportation Improvement Program (STIP) or (Transportation Improvement Program) TIP funding. Additional support from relevant State and local officials is not required; however, an applicant should demonstrate that the project has broad public support.

(3) Federal Transportation Requirements Affecting State and Local Planning. The planning requirements applicable to the Federal-aid highway program apply to all TIGER projects, but for port, freight, and rail projects planning requirements of the operating administration that will administer the TIGER project will also apply,⁶ including intermodal projects located at airport facilities.⁷ Applicants should demonstrate that a project that is required to be included in the relevant State, metropolitan, and local planning documents has been or will be included in such documents. If the project is not included in a relevant planning document at the time the application is submitted, the applicant should submit a statement from the appropriate planning agency that actions are underway to include the project in the relevant planning document.

⁶ Under 23 U.S.C. 134 and 135, all projects requiring an action by FHWA must be in the applicable plan and programming documents (e.g., metropolitan transportation plan, transportation improvement program (TIP) and statewide transportation improvement program (STIP)). Further, in air quality non-attainment and maintenance areas, all regionally significant projects, regardless of the funding source, must be included in the conforming metropolitan transportation plan and TIP. Inclusion in the STIP is required under certain circumstances. To the extent a project is required to be on a metropolitan transportation plan, TIP, and/or STIP, it will not receive a TIGER grant until it is included in such plans. Projects not currently included in these plans can be amended by the State and MPO. Projects that are not required to be in long range transportation plans, STIPs, and TIPs will not need to be included in such plans in order to receive a TIGER grant. Port, freight rail, and intermodal projects are not required to be on the State Rail Plans called for in the Passenger Rail Investment and Improvement Act of 2008, or in a State Freight Plan as described in the FAST Act. However, applicants seeking funding for freight projects are encouraged to demonstrate that they have done sufficient planning to ensure that projects fit into a prioritized list of capital needs and are consistent with long-range goals. Means of demonstrating this consistency would include whether the project is in a TIP or a State Freight Plan that conforms to the requirements Section 70202 of Title 49 prior to the start of construction. Port planning guidelines are available at StrongPorts.gov.

⁷ Projects at grant obligated airports must be compatible with the FAA-approved Airport Layout Plan, as well as aeronautical surfaces associated with the landing and takeoff of aircraft at the airport. Additionally, projects at an airport: Must comply with established Sponsor Grant Assurances, including (but not limited to) requirements for non-exclusive use facilities, consultation with users, consistency with local plans including development of the area surrounding the airport, and consideration of the interest of nearby communities, among others; and must not adversely affect the continued and unhindered access of passengers to the terminal.

To the extent possible, freight projects should be included in a State Freight Plan and supported by a State Freight Advisory Committee (49 U.S.C. 70201, 70202), if these exist. Applicants should provide links or other documentation supporting this consideration.

Because projects have different schedules, the construction start date for each TIGER grant must be specified in the project-specific agreements signed by relevant operating administration and the grant recipients, based on critical path items that applicants identify in the application and will be consistent with relevant State and local plans.

(D) Assessment of Project Risks and Mitigation Strategies. Project risks, such as procurement delays, environmental uncertainties, increases in real estate acquisition costs, uncommitted local match, or lack of legislative approval, affect the likelihood of successful project start and completion. The applicant should identify all material risks to the project and the strategies that the lead applicant and any project partners have undertaken or will undertake in order to mitigate those risks. The applicant should assess the greatest risks to the project and identify how the project parties will mitigate those risks.

To the extent it is unfamiliar with the Federal program, the applicant should contact the appropriate DOT operating administration field or headquarters offices, as found in contact information at www.transportation.gov/TIGERgrants, for information on the pre-requisite steps to obligate Federal funds in order to ensure that their project schedule is reasonable and that there are no risks of delays in satisfying Federal requirements.

vi. Benefit Cost Analysis

This section describes the recommended approach for the completion and submission of a benefit-cost analysis (BCA) as an appendix to the Project Narrative. The results of the analysis should be summarized in the Project Narrative directly, as described in Section D.2.

Applicants should delineate each of their project's expected outcomes in the form of a complete BCA to enable the Department to evaluate the project's cost-effectiveness by estimating a benefit-cost ratio and calculating the magnitude of net benefits and costs for the project. In support of each project for which an applicant seeks funding, that applicant should submit a BCA that quantifies the expected benefits of the project against a no-build baseline, provides monetary estimates of the benefits' economic value, and compares the properly-discounted present values of these benefits to the project's estimated costs.

The primary economic benefits from projects eligible for TIGER grants are likely to include savings in travel time costs, vehicle operating costs, and safety costs for both existing users of the improved facility and new users who may be attracted to it as a result of the project. Reduced damages from vehicle emissions and savings in maintenance costs to public agencies may also be quantified. Applicants may describe other categories of benefits in the BCA that are more difficult to quantify and value in economic terms, such as improving the reliability of travel times or improvements to the existing human and natural environments (such as increased connectivity, improved public health, storm water runoff mitigation, and noise reduction), while also providing numerical estimates of the magnitude and timing of each of these additional impacts wherever possible. Any benefits claimed for the project, both quantified and unquantified, should be clearly tied to the expected outcomes of the project.

The BCA should include the full costs of developing, constructing, operating, and maintaining the proposed project, as well as the expected timing or schedule for costs in each of these categories. The BCA may also consider the present discounted value of any remaining service life of the asset at the end of the analysis period (net of future maintenance and rehabilitation costs) as a deduction from the estimated costs. The costs and benefits that are compared in the BCA should also cover the same project scope.

The BCA should carefully document the assumptions and methodology used to produce the analysis, including a description of the baseline, the sources of data used to project the outcomes of the project, and the values of key input parameters. Applicants should provide all relevant files used for their BCA, including any spreadsheet files and technical memos describing the analysis (whether created in-house or by a contractor). The spreadsheets and technical memos should present the calculations in sufficient detail and transparency to allow the analysis to be reproduced by DOT evaluators. Detailed guidance for estimating some types of quantitative benefits and costs, together with recommended economic values for converting them to dollar terms and discounting to their present values, are available in the Department's guidance for conducting BCAs for projects seeking funding under the TIGER program (see https://www.transportation.gov/buildamerica/TIGERgrants).

vii. Cost Share

The applicant should describe the extent to which the project cannot be readily and efficiently completed without a TIGER Discretionary Grant, and describe the extent to which other sources of funds, including Federal, State, or local funding, may or may not be readily available for the project. This section of the application should include information that, when considered with the project budget information presented elsewhere in the application, is sufficient for the Department to evaluate how the project addresses the Cost Share criterion, including:

(A) A description of the applicant's activities to maximize the non-Federal share of the project funding;

(B) a description of any fiscal constraints that affect the applicant's ability to use non-Federal contributions;

(C) a description of the non-Federal share across the applicant's transportation program, if the applicant is a regular recipient of federal transportation funding; and

(D) a description of the applicant's plan to address the full life-cycle costs associated with the project, including a description of operations and maintenance funding commitments made by the applicant.

viii. Federal Wage Rate Certification (a Certification, Signed by the Applicant(s), Stating That It Will Comply With the Requirements of Subchapter IV of Chapter 31 of Title 40, United States Code [Federal Wage Rate Requirements], as Required by the FY 2017 Appropriations Act)

The purpose of this recommended format is to ensure that applications clearly address the program requirements and make critical information readily apparent.

DOT recommends that the project narrative be prepared with standard formatting preferences (i.e., a single-spaced document, using a standard 12-point font, such as Times New Roman, with 1-inch margins). The project narrative may not exceed 30 pages in length. Documentation supporting the assertions made in the narrative portion may also be provided, but should be limited to relevant information. Cover pages, tables of contents, and the federal wage rate certification do not count towards the 30-page limit for the narrative portion of the application. The only substantive portions of the application that may exceed the 30-page limit are any supporting documents (including a more detailed discussion of the benefit-cost analysis) provided to support assertions or conclusions made in the 30-page narrative section. If possible, Web site links to supporting documentation (including a more detailed discussion of the benefit-cost analysis) should be provided rather than copies of these materials. Otherwise, supporting documents should be included as appendices to the application. Applicants' references to supporting documentation should clearly identify the relevant portion of the supporting material. At the applicant's discretion, relevant materials provided previously to a relevant modal administration in support of a different DOT discretionary financial assistance program (for example, New Starts or TIFIA) may be referenced and described as unchanged. This information need not be resubmitted for the TIGER Discretionary Grant application but may be referenced as described above; Web site links to the materials are highly recommended. DOT recommends using appropriately descriptive file names (e.g., “Project Narrative,” “Maps,” “Memoranda of Understanding and Letters of Support,” etc.) for all attachments.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The Department may not make a TIGER grant to an applicant until the applicant has complied with all applicable unique entity identifier and SAM requirements and, if an applicant has not fully complied with the requirements by the time the Department is ready to make a TIGER grant, the Department may determine that the applicant is not qualified to receive a TIGER grant and use that determination as a basis for making a TIGER grant to another applicant.

4. Submission Dates and Times

i. Deadline

Applications must be submitted by 8:00 p.m. EDT on October 16, 2017. The Grants.gov “Apply” function will open by September 7, 2017. The Department has determined that an application deadline fewer than 60 days after this notice is published is appropriate because this notice is substantially similar to previous years.

To submit an application through Grants.gov, applicants must:

(1) Obtain a Data Universal Numbering System (DUNS) number;

(2) Register with the System for Award Management (SAM) at www.SAM.gov;

(3) Create a Grants.gov username and password; and

(4) The E-Business Point of Contact (POC) at the applicant's organization must respond to the registration email from Grants.gov and login at Grants.gov to authorize the applicant as the Authorized Organization Representative (AOR). Please note that there can be more than one AOR for an organization.

Please note that the Grants.gov registration process usually takes 2-4 weeks to complete and that the Department will not consider late applications that are the result of failure to register or comply with Grants.gov applicant requirements in a timely manner. For information and instruction on each of these processes, please see instructions at http://www.grants.gov/web/grants/applicants/applicant-faqs.html. If applicants experience difficulties at any point during the registration or application process, please call the Grants.gov Customer Service Support Hotline at 1(800) 518-4726, Monday-Friday from 7:00 a.m. to 9:00 p.m. EST.

ii. Consideration of Applications

Only applicants who comply with all submission deadlines described in this notice and electronically submit valid applications through Grants.gov will be eligible for award. Applicants are strongly encouraged to make submissions in advance of the deadline.

iii. Late Applications

Applicants experiencing technical issues with Grants.gov that are beyond the applicant's control must contact TIGERgrants@dot.gov prior to the application deadline with the user name of the registrant and details of the technical issue experienced. The applicant must provide:

(1) Details of the technical issue experienced;

(2) Screen capture(s) of the technical issues experienced along with corresponding Grants.gov “Grant tracking number”;

(3) The “Legal Business Name” for the applicant that was provided in the SF-424;

(4) The AOR name submitted in the SF-424;

(5) The DUNS number associated with the application; and

(6) The Grants.gov Help Desk Tracking Number.

To ensure a fair competition of limited discretionary funds, the following conditions are not valid reasons to permit late submissions: (1) Failure to complete the registration process before the deadline; (2) failure to follow Grants.gov instructions on how to register and apply as posted on its Web site; (3) failure to follow all instructions in this Notice of funding opportunity; and (4) technical issues experienced with the applicant's computer or information technology environment. After the Department reviews all information submitted and contact the Grants.gov Help Desk to validate reported technical issues, DOT staff will contact late applicants to approve or deny a request to submit a late application through Grants.gov. If the reported technical issues cannot be validated, late applications will be rejected as untimely.

E. Application Review Information

1. Criteria

This section specifies the criteria that DOT will use to evaluate and award applications for TIGER Discretionary Grants. The criteria incorporate the statutory eligibility requirements for this program, which are specified in this notice as relevant. There are two categories of selection criteria, “Primary Selection Criteria” and “Secondary Selection Criteria.” Projects will also be evaluated for demonstrated project readiness, benefits and costs, and cost share.

i. Primary Selection Criteria

Applications that do not demonstrate a likelihood of significant long-term benefits based on these criteria will not proceed in the evaluation process. DOT does not consider any primary selection criterion more important than the others. The primary selection criteria, which will receive equal consideration, are:

a. Safety

The Department will assess the project's ability to foster a safe transportation system for the movement of goods and people. The Department will consider the projected impacts on the number, rate, and consequences of crashes, fatalities and injuries among transportation users; the project's contribution to the elimination of highway/rail grade crossings, or the project's contribution to preventing unintended releases of hazardous materials.

b. State of Good Repair

The Department will assess whether and to what extent: (1) The project is consistent with relevant plans to maintain transportation facilities or systems in a state of good repair and address current and projected vulnerabilities; (2) if left unimproved, the poor condition of the asset will threaten future transportation network efficiency, mobility of goods or accessibility and mobility of people, or economic growth; (3) the project is appropriately capitalized up front and uses asset management approaches that optimize its long-term cost structure; (4) a sustainable source of revenue is available for operations and maintenance of the project and the project will reduce overall life-cycle costs; and (5) the project includes a plan to maintain the infrastructure in a state of good repair. The Department will prioritize projects that ensure the good condition of infrastructure, including rural infrastructure, that support commerce and economic growth.

c. Economic Competitiveness

The Department will assess whether the project will (1) decrease transportation costs and improve access, especially for rural communities, through reliable and timely access to employment centers and job opportunities; (2) improve long-term efficiency, reliability or costs in the movement of workers or goods; (3) increase the economic productivity of land, capital, or labor; (4) result in long-term job creation and other economic opportunities; or (5) help the United States compete in a global economy by facilitating efficient and reliable freight movement.

Projects that address congestion in major urban areas, particularly those that do so through the use of congestion pricing or the deployment of advanced technology, projects that bridge gaps in service in rural areas, and projects that attract private economic development, all support national or regional economic competitiveness. Projects that incorporate private sector contributions, including through a public-private partnership structure, are likely to be more competitive that those that rely solely on public non-Federal funding.

d. Environmental Sustainability

The Department will consider the extent to which the project improves energy efficiency, reduces dependence on oil, reduces congestion-related emissions, improves water quality, avoids and mitigates environmental impacts and otherwise benefits the environment, including through alternative right of way uses demonstrating innovative ways to improve or streamline environmental reviews while maintaining the same outcomes. The Department will assess the project's ability to: (i) Reduce energy use and air or water pollution through congestion mitigation strategies; (ii) avoid adverse environmental impacts to air or water quality, wetlands, and endangered species; or (iii) provide environmental benefits, such as brownfield redevelopment, ground water recharge in areas of water scarcity, wetlands creation or improved habitat connectivity, and stormwater mitigation.

e. Quality of Life

The Department will consider the extent to which the project increases transportation choices for individuals to provide more freedom on transportation decisions and improves access to essential services for people in communities across the United States, particularly for rural communities. The Department will consider the extent to which the project improves connectivity for citizens to jobs, health care, and other critical destinations.

ii. Secondary Selection Criteria

a. Innovation

The Department will assess the use of innovative strategies to address the primary selection criteria. The Department particularly seeks to experiment with innovative approaches to transportation safety, particularly in relation to automated vehicles and the detection, mitigation, and documentation of safety risks. When making TIGER award decisions, the Department will consider any innovative safety approaches proposed by the applicant, particularly projects which incorporate innovative design solutions, enhance the environment for automated vehicles, or use technology to improve the detection, mitigation, and documentation of safety risks. Innovative safety approaches may include, but are not limited to:

• Conflict detection and mitigation technologies (e.g., intersection alerts and signal prioritization);

• Dynamic signaling or pricing systems to reduce congestion;

• Signage and design features that facilitate autonomous or semi-autonomous vehicle technologies;

• Applications to automatically capture and report safety-related issues (e.g., identifying and documenting near-miss incidents); and

• Cybersecurity elements to protect safety-critical systems.

For innovative safety proposals, the Department will evaluate safety benefits that those approaches could produce and the broader applicability of the potential results.

DOT will also assess the extent to which the project uses innovative technology to significantly enhance the operational performance of the transportation system. Further, DOT will consider the extent to which the project utilizes innovative practices in contracting, congestion management, asset management, or long-term operations and maintenance. DOT is interested in projects that apply innovative strategies to improve the efficiency of project development or to improve project delivery, including by using FHWA's Special Experimental Project No. 14 (SEP-14) and Special Experimental Project No. 15 (SEP-15).

DOT will also assess the extent to which the project incorporates innovations in transportation funding and finance and leverages both existing and new sources of funding or financing through both traditional and innovative means, including by using private sector funding or financing and recycled revenue from the competitive sale or lease of publicly owned or operated assets.

b. Partnership

The Department will consider the extent to which projects demonstrate strong collaboration among a broad range of stakeholders. Projects with strong partnership typically involve multiple partners in project development and funding, such as State and local governments, other public entities, and/or private or nonprofit entities. DOT will also assess the extent to which the project application demonstrates collaboration among neighboring or regional jurisdictions, including neighboring rural areas, to achieve national, regional, or metropolitan benefits. In the context of public-private partnerships, DOT will assess the extent to which partners are encouraged to ensure long-term asset performance, such as through pay-for-success approaches.

DOT will also consider the extent to which projects include partnerships that bring together diverse transportation agencies and/or are supported, financially or otherwise, by other stakeholders that are pursuing similar objectives. For example, DOT will consider the extent to which transportation projects are coordinated with economic development, housing, water infrastructure, and land use plans and policies or other public service efforts.

iii. Demonstrated Project Readiness

During application evaluation, the Department considers project readiness to assess the likelihood of successful project. The Department will consider significant risks to successful completion of a project, including risks associated with environmental review, permitting, technical feasibility, funding, and the applicant's capacity to manage project delivery. Risks do not disqualify projects from award, but competitive applications clearly and directly describe achievable risk mitigation strategies. A project with mitigated risks or with a risk mitigation plan is more competitive than a comparable project with unaddressed risks.

iv. Project Costs and Benefits

The Department will consider the project's costs and benefits. To the extent possible, the Department will rely on quantitative, data-supported analysis to assess how well a project addresses this criterion, including an assessment of the project's estimated benefit-cost ratio and net quantifiable benefits based on the applicant-supplied BCA described in Section D.2.vi.

v. Cost Sharing or Matching

The Department seeks applications for projects that exceed the minimum non-Federal cost share requirement described in Section C.2. Additionally, the FY 2017 Appropriations Act directs the Department to prioritize projects that require a contribution of Federal funds to complete an overall financing package, and all projects can increase their competitiveness for purposes of the TIGER program by demonstrating significant non-Federal financial contributions. TIGER applications that include INFRA Grants program funding as part of a proposed financing package will be less competitive than those that do not.

DOT recognizes that applicants have varying abilities and resources to contribute non-Federal contributions, especially those communities that are not routinely receiving and matching Federal funds. DOT recognizes certain communities with fewer financial resources may struggle to provide cost-share that exceeds the minimum requirements and will, therefore, consider an applicant's broader fiscal constraints when evaluating non-Federal contributions.

This evaluation criterion is separate from the statutory cost share requirements for TIGER grants, which are described Section C.2. Those statutory requirements establish the minimum permissible non-Federal share; they do not define a competitive TIGER project.

vi. Additional Considerations

The FY 2017 Appropriations Act requires the Department to consider contributions to geographic diversity among recipients, including the need for a balance between the needs of rural and urban communities when selecting TIGER projects.

2. Review and Selection Process

DOT reviews all eligible applications received before the deadline. The TIGER review and selection process consists of three phases: Technical Review, Tier Two Analysis consisting of project readiness and economic analysis, and Senior Review. A Control and Calibration Team ensures consistency across projects and appropriate documentation throughout the review and selection process. In the Technical Evaluation phase, teams comprising staff from the Office of the Secretary (OST) and modal administrations review all eligible applications and rate projects as Highly Recommended, Recommended, Acceptable, or Not Recommended based on how well the projects align with the selection criteria.

Tier 2 Analysis consists of (1) an Economic Analysis and (2) a Project Readiness Analysis. The Economic Analysis Team, comprising OST and modal administration economic staff, assess the potential benefits and costs of the proposed projects. The Project Readiness Team, comprising Office of the Secretary Office of Policy (OST-P) and modal administration staff, evaluates the proposed project's technical and financial feasibility, potential risks and mitigation strategies, and project schedule, including the status of environmental approvals and readiness to proceed.

In the third review phase, the Senior Review Team, which includes senior leadership from OST and the modal administrations, considers all projects that were rated Acceptable, Recommended, or Highly Recommended and determines which projects to advance to the Secretary as Highly Rated. The Secretary selects from the Highly Rated projects for final awards.

3. Additional Information

Prior to award, each selected applicant will be subject to a risk assessment as required by 2 CFR 200.205. The Department must review and consider any information about the applicant that is in the designated integrity and performance system accessible through SAM (currently the Federal Awardee Performance and Integrity Information System (FAPIIS)). An applicant may review information in FAPIIS and comment on any information about itself. The Department will consider comments by the applicant, in addition to the other information in FAPIIS, in making a judgment about the applicant's integrity, business ethics, and record of performance under Federal awards when completing the review of risk posed by applicants.

F. Federal Award Administration Information

1. Federal Award Notice

Following the evaluation outlined in Section E, the Secretary will announce awarded projects by posting a list of selected projects at www.transportation.gov/TIGER. Notice of selection is not authorization to begin performance. Following that announcement, the relevant modal administration will contact the point of contact listed in the SF 424 to initiate negotiation of the grant agreement for authorization.

2. Administrative and National Policy Requirements

All awards will be administered pursuant to the Uniform Administrative Requirements, Cost Principles and Audit Requirements for Federal Awards found in 2 CFR part 200, as adopted by DOT at 2 CFR part 1201. Additionally, applicable Federal laws, rules and regulations of the relevant operating administration administering the project will apply to the projects that receive TIGER Discretionary Grants awards, including planning requirements, Service Outcome Agreements, Stakeholder Agreements, Buy America compliance, and other requirements under DOT's other highway, transit, rail, and port grant programs.

For projects administered by FHWA, applicable Federal laws, rules, and regulations set forth in Title 23 U.S.C. and Title 23 CFR apply. For an illustrative list of the applicable laws, rules, regulations, executive orders, polices, guidelines, and requirements as they relate to a TIGER project administered by the FHWA, please see http://www.ops.fhwa.dot.gov/freight/infrastructureinfrastructure/tiger/fy2015_gr_exhbt/index.htm. For TIGER projects administered by the Federal Transit Administration and partially funded with Federal transit assistance, all relevant requirements under chapter 53 of title 49 U.S.C. apply. For transit projects funded exclusively with TIGER Discretionary Grants funds, some requirements of chapter 53 of title 49 U.S.C. and chapter VI of title 49 CFR apply. For projects administered by the Federal Railroad Administration, FRA requirements described in 49 U.S.C. Subtitle V, part C apply.

Federal wage rate requirements included in subchapter IV of chapter 31 of title 40, U.S.C., apply to all projects receiving funds under this program, and apply to all parts of the project, whether funded with TIGER Discretionary Grant funds, other Federal funds, or non-Federal funds.

3. Reporting

i. Progress Reporting on Grant Activities

Each applicant selected for TIGER Discretionary Grants funding must submit quarterly progress reports and Federal Financial Reports (SF-425) to monitor project progress and ensure accountability and financial transparency in the TIGER program.

ii. System Performance Reporting

Each applicant selected for TIGER Discretionary Grant funding must collect information and report on the project's observed performance with respect to the relevant long-term outcomes that are expected to be achieved through construction of the project. Performance indicators will not include formal goals or targets, but will include observed measures under baseline (pre-project) as well as post-implementation outcomes for an agreed-upon timeline, and will be used to evaluate and compare projects and monitor the results that grant funds achieve to the intended long-term outcomes of the TIGER Discretionary Grants program are achieved. To the extent possible, performance indicators used in the reporting should align with the measures included in the application and should relate to at least one of the primary selection criteria defined in Section E. Performance reporting continues for several years after project construction is completed, and DOT does not provide TIGER Discretionary Grant funding specifically for performance reporting.

iii. Reporting of Matters Related to Recipient Integrity and Performance

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice please contact the TIGER Discretionary Grants program staff via email at TIGERGrants@dot.gov, or call Howard Hill at 202-366-0301. A TDD is available for individuals who are deaf or hard of hearing at 202-366-3993. In addition, DOT will post answers to questions and requests for clarifications on DOT's Web site at www.transportation.gov/TIGER. To ensure applicants receive accurate information about eligibility or the program, the applicant is encouraged to contact DOT directly, rather than through intermediaries or third parties, with questions. DOT staff may also conduct briefings on the TIGER Discretionary Grants selection and award process upon request.

H. Other information

1. Protection of Confidential Business Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions. DOT protects such information from disclosure to the extent allowed under applicable law. In the event DOT receives a Freedom of Information Act (FOIA) request for the information, DOT will follow the procedures described in its FOIA regulations at 49 CFR 7.17. Only information that is ultimately determined to be confidential under that procedure will be exempt from disclosure under FOIA.

Elaine L. Chao,
Secretary.

[FR Doc. 2017-19009 Filed 9-6-17; 8:45 am]

BILLING CODE P